DEPARTMENT OF HEALTH AND HUMAN SERVICES

Administration for Children and Families

Request for Information; Innovative Approaches and Knowledge Gaps Related To Enhancing Nonresident Parents' Ability To Support Their Children Economically and Emotionally

AGENCY: Administration for Children and Families; HHS.

ACTION: Request for public comment.

SUMMARY: Through this Request for Information (RFI), the Administration for Children and Families (ACF), in the U.S. Department of Health and Human Services (HHS), seeks to further the development of employment programs for nonresident parents by soliciting information and recommendations from a broad array of stakeholders in the public and private sectors, including state, regional, tribal, and local areas. The Foundations for Evidence-Based Policymaking Act of 2018 (Evidence Act) requires federal agencies to develop evidence-building plans to identify and address policy questions relevant to programs, policies, and regulations of the agency. In this vein, ACF will analyze information collected from this RFI to continue developing a learning and action agenda to better understand the effectiveness of employment programs for nonresident parents.

DATES: Send comments on or before March 6, 2020.

ADDRESSES: Submit questions, comments, and supplementary documents to nonresidentemploymentRFI@acf.hhs.gov.

SUPPLEMENTARY INFORMATION:

Invitation to Comment: HHS invites comments regarding the questions included in this notice. To ensure that your comments are clearly stated, please identify the specific question, or other section of this notice, that your comments address.

1.0 Background

A key responsibility of all parents is to economically support their children, whether or not they live with them. Parents are better able to fulfill this responsibility when they are working regularly. While the Temporary Assistance for Needy Families (TANF) program has encouraged parents receiving government assistance (who are typically custodial mothers) to pursue employment, increasing work among nonresident parents (who are typically fathers and not receiving assistance) remains a challenge. An analysis by the federal Office of Child Support Enforcement (OCSE) estimates that in 2015, 13% of noncustodial parents had been out of work for at least a year.

ACF recently issued three Information Memorandums to encourage states to provide employment services to noncustodial parents. TANF-ACF-IM-18-01 reminded states that they may use federal TANF funds and state maintenance-of-effort funds to provide employment services to noncustodial parents (please see https://www.acf.hhs.gov/ofa/resource/tanf-acf-im-2018-01the-use-of-tanf-funds-to-promote-employment-programs-for-noncustodial-parents). OCSE-ACF-IM-18-02 encouraged states to use IV-D incentive funds to promote noncustodial parent work activities (please see https://www.acf.hhs.gov/css/resource/use-of-iv-d-incentive-funds-for-ncp-work-activities). OCSE-ACF-IM-19-04 conveys that HHS is prepared to review requests for demonstration waivers that would allow states and tribes to fund employment programs for noncustodial parents, under section 1115 of the Social Security Act (please see https://www.acf.hhs.gov/css/resource/availability-of-section-1115-waivers-to-fund-ncp-work-activities).

Child support programs typically refer to parents in the program who live apart from their children and are expected to pay child support as “noncustodial parents.” We use a broader term—nonresident parents—to reflect ACF's interest in soliciting information about and recommendations of employment programs that target all parents who live apart from one or more of their children, regardless of their participation in the child support program.

Prior research has found that employment programs for nonresident parents can be successful at improving employment opportunities for parents. OCSE sponsored the Child Support Noncustodial Parent Employment Demonstration, which tested the effectiveness of child support-led employment programs. The evaluation found that this program increased the employment and earnings of noncustodial parents, satisfaction with the child support program, and parent-child contact. Other recent evidence is from the Parents and Children Together Evaluation, which examined the effectiveness of four Responsible Fatherhood programs funded by ACF's Office of Family Assistance. The evaluation found that the programs improved aspects of fathers' parenting behavior, employment, and knowledge of the child support program. Two additional demonstrations, the Enhanced Transitional Jobs Demonstration and the Subsidized and Transitional Employment Demonstration, examined the effectiveness of subsidized employment. Four sites in the demonstrations focused on serving noncustodial parents. The evaluation found that subsidized employment programs in the study increased the earnings of noncustodial parents and increased the consistency of paying formal child support during the final year of the 30-month follow-up period.

2.0 Request for Information

Through this RFI, ACF is soliciting ideas and information from a broad array of stakeholders on improving nonresident parents' employment outcomes, including how to create a comprehensive, multi-system approach that addresses multiple barriers that nonresident parents face when trying to support their children. Although the primary aim of this RFI is to understand further how employment programs can increase nonresident parents' ability to economically support their children, we recognize that nonresident parents are parents first and may also face barriers to supporting their children emotionally. Consequently, we are not only interested in information and recommendations on programs that focus exclusively on employment services, but we are also interested in programs that provide employment services combined with parenting or other activities aimed at promoting father involvement and healthy relationships in children's lives.

The Evidence Act (Pub. L. 115-435) requires federal agencies to develop evidence-building plans to identify and address policy questions relevant to programs, policies, and regulations of the agency. Responses to this RFI will inform ACF's ongoing development of a learning and action agenda on employment programs for nonresident parents. This RFI is for information and planning purposes only and should not be construed as a solicitation or as an obligation on the part of ACF or HHS.

We ask respondents to address the following questions. You do not need to address every question, and should focus on those where you have relevant expertise or experience. In your response, please provide a brief description of yourself or your organization before addressing the questions.

3.0 Key Questions

3.1 In your opinion, what are the core components necessary for an employment program to be effective for nonresident parents? Please provide evidence that supports your opinion.

3.2 In your opinion, what factors have either facilitated or hindered the implementation of employment programs for nonresident parents?

3.3 Please describe existing, promising employment programs/services for nonresident parents that may include, but are not limited to, work readiness training, occupational/sector-based training, job search assistance, subsidized employment, or other employment services. When describing the program, please include the following:

a. Target population,

b. Structure and organizational context of the program,

c. Roles and responsibilities of the lead agency and any partner agency,

d. Services provided, and

e. Any evidence of the program's effectiveness.

3.4 What role has job training, both in the classroom and on-the-job, played in effective employment programs for nonresident parents?

3.5 What role has activities aimed at parenting and promoting father involvement and healthy relationships in children's lives played in effective employment programs for nonresident parents?

3.6 To what extent do services need to vary depending on the subpopulation of nonresident parents being served? Please explain what services you believe are better suited for which subpopulations. Subpopulations could include, but are not limited to, noncustodial parents, parents with criminal records and/or a history of incarceration, young/teen parents, and parents with children by multiple partners, etc.

3.7 What are the key barriers that nonresident parents face when trying to secure or maintain employment to support their children financially? We are interested in hearing about both individual- and system-level barriers that nonresident parents may face to financially supporting their children, such as those related to transportation, education, housing, employment history, child access, child support debt, criminal record, fees/fines/restitution debt, substance use or mental health disorders, etc.

3.7.1 What specific approaches have you seen programs use to address these barriers? Please provide any evidence on the effectiveness of these approaches in improving parents' financial support for their children.

3.8 In your experience, what types of agencies or organizations should be active partners in an employment program for nonresident parents? Which type of agency is most successful in the lead role?

3.9 Please describe ways to create more systematic relationships between child support agencies and employment service providers that might increase the take-up of employment services among nonresidential parents or increase child support compliance among noncustodial parents in employment programs, etc.

3.10 If you are a government official or a practitioner, what additional information would you like to have about approaches to providing or implementing employment programs for nonresident parents?

3.11 What aspects of employment programs for nonresident parents would benefit from further evaluation?

3.12 What suggestions do you have for how federal, state, regional, tribal, and local governments could support the development of high-quality employment programs for nonresident parents and/or address gaps in current efforts?

Authority: Social Security Act § 413 (Title IV-A: Block Grants to States for the Temporary Assistance of Needy Families) [42 U.S.C. 613].

Mary B. Jones,
ACF/OPRE Certifying Officer.

[FR Doc. 2019-25157 Filed 11-19-19; 8:45 am]

BILLING CODE 4184-01-P